SOCIAL SECURITY ADMINISTRATION

[Docket No. SSA-2020-0035]

Privacy Act of 1974; System of Records

AGENCY: Social Security Administration (SSA).

ACTION: Notice of a modified system of records.

SUMMARY: In accordance with the Privacy Act of 1974, we are issuing public notice of our intent to modify an existing system of records entitled, Anti-Fraud System (60-0388), last published on December 11, 2020. This notice publishes details of the modified system as set forth below under the caption, SUPPLEMENTARY INFORMATION.

DATES: The system of records notice (SORN) is applicable April 28, 2022, with the exception of the new routine uses, which take effect May 31, 2022. We invite public comment on the routine uses or other aspects of this SORN. In accordance with the Privacy Act of 1974, we are providing the public a 30-day period in which to submit comments. Therefore, please submit any comments by May 31, 2022.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov. Please reference docket number SSA-2020-0035. All comments we receive will be available for public inspection at the above address and we will post them to http://www.regulations.gov.

FOR FURTHER INFORMATION CONTACT: Tristin Dorsey, Government Information Specialist, Privacy Implementation Division, Office of Privacy and Disclosure, Office of the General Counsel, SSA, Room G-401 West High Rise, 6401 Security Boulevard, Baltimore, Maryland 21235-6401, telephone: (410) 966-5855, email: tristin.dorsey@ssa.gov.

SUPPLEMENTARY INFORMATION: We are modifying the system manager and location to clarify the name of the office. We are modifying the Anti-Fraud System categories of individuals and records to include information about medical providers and medical examiners. We are also modifying the record source categories to include an existing system of records, Electronic Disability Claim File.

In addition, we are adding a new routine use to support one of SSA's strategic goals of enhancing fraud prevention and detection activities. This new routine use will permit disclosures to Federal, State, and local law enforcement agencies to investigate or prosecute criminal violations of the Social Security Act, or other applicable statutes to which criminal penalties attach. We are also updating the policies and practices for the retrieval of records, policies and practices for the retention and disposal of records, record access procedures, and notification procedures.

Lastly, we are modifying the notice throughout to correct miscellaneous stylistic formatting and typographical errors of the previously published notice, and to ensure the language reads consistently across multiple systems. We are republishing the entire notice for ease of reference.

In accordance with 5 U.S.C. 552a(r), we have provided a report to OMB and Congress on this modified system of records.

Matthew Ramsey,
Executive Director, Office of Privacy and Disclosure, Office of the General Counsel.

SYSTEM NAME AND NUMBER:

Anti-Fraud System, 60-0388.

SECURITY CLASSIFICATION:

Unclassified.

SYSTEM LOCATION:

Social Security Administration, Office of Analytics, Review, and Oversight, Office of Program Integrity, Robert M. Ball Building, 6401 Security Boulevard, Baltimore, MD 21235.

SYSTEM MANAGER(S):

Social Security Administration, Office of Analytics, Review, and Oversight, Office of Program Integrity, Robert M. Ball Building, 6401 Security Boulevard, Baltimore, MD 21235, (410) 966-5855.

AUTHORITY FOR MAINTENANCE OF THE SYSTEM:

Sections 205(a) and 702(a)(5) of the Social Security Act, as amended, and the Fraud Reduction and Data Analytics Act of 2015 (Pub. L. 114-186).

PURPOSE(S) OF THE SYSTEM:

This system assists in detecting, preventing, mitigating, and tracking the likelihood of fraudulent activity in SSA's programs and operations. We will use the information in this system to identify patterns of fraud and to improve data-driven fraud activations and real-time analysis. We may use the results of these data analysis activities, including fraud leads and vulnerabilities, in our fraud investigations and other activities to support program and operational improvements.

CATEGORIES OF INDIVIDUALS COVERED BY THE SYSTEM:

This system maintains information about individuals who are relevant to suspicious or potentially fraudulent activities connected with Social Security programs and operations, including but not limited to, the subjects of an investigation; Social Security applicants and beneficiaries; Supplemental Security income applicants and recipients; representative payees; appointed representatives; complainants; key witnesses; and current or former employees, contractors, medical providers, suppliers, or agents.

CATEGORIES OF RECORDS IN THE SYSTEM:

This system consists of records related to our review of all suspicious or potentially fraudulent activities in Social Security programs and operations, and SSA and non-SSA breach information, which includes data generated internally or received from businesses with whom SSA has a relationship, or government entities or partners.

This system also consists of records that we obtain from existing SSA systems of records pertaining to individuals, such as:

• Enumeration Information: This information may include name, Social Security number (SSN), date of birth, parent name(s), address, and place of birth.

• Earnings Information: This information may include yearly earnings and quarters of coverage information.

• Social Security Benefit Information: This information may include disability status, benefit payment amount, data relating to the computation, appointed representative, and representative payee.

• Supplemental Security Income payment information: This information may include may include disability status, benefit payment amount, data relating to the computation, appointed representative, and representative payee.

• Representative Payee Information: This information may include names, SSNs, and addresses of representative payees and relationship with the beneficiary.

• Persons Conducting Business with Us Through Electronic Services: This information may include name, address, date of birth, SSN, knowledge-based authentication data, and blocked accounts.

• Employee Information: This information may include a personal identification number (PIN), employee name, job title, SSN about our employees, contractors, or agents.

• Medical Provider/Examiner Information: This information may include name, address, tax identification number or employee identification number, and an indicator when the medical examiner or medical provider is listed on the List of Excluded Individuals and Entities as maintained by the Department of Health and Human Services' Office of Inspector General.

RECORD SOURCE CATEGORIES:

We obtain information in this system from individuals, i.e., members of the public and agency employees; local, State, and Federal agencies; private entities; and existing SSA systems of records, such as the Master Files of SSN Holders and SSN Applications (60-0058), Claims Folders System (60-0089), Master Beneficiary Record (60-0090), Supplemental Security Income Record and Special Veterans Benefits (60-0103), Personal Identification Number File (60-0214), Master Representative Payee File (60-0222), Electronic Disability Claim File (60-0320), and the Central Repository of Electronic Authentication Data Master File (60-0373). We may also obtain information from other existing SSA system of records. For a full listing of our system of records that could provide information to the Anti-Fraud System, see www.ssa.gov/privacy/sorn.html.

ROUTINE USES OF RECORDS MAINTAINED IN THE SYSTEM, INCLUDING CATEGORIES OF USERS AND THE PURPOSES OF SUCH USES:

We will disclose records pursuant to the following routine uses; however, we will not disclose any information defined as “return or return information” under 26 U.S.C. 6103 of the Internal Revenue Code (IRC), unless authorized by statute, the Internal Revenue Service (IRS), or IRS regulations.

1. To any agency, person, or entity in the course of an SSA investigation, to the extent necessary, to obtain or to verify information pertinent to an SSA fraud investigation.

2. To a congressional office in response to an inquiry from that office made on behalf of, and at the request of, the subject of the record or a third party acting on the subject's behalf.

3. To the Office of the President, in response to an inquiry received from that office made on behalf of, and at the request of, the subject of record or a third party acting on the subject's behalf.

4. To the Department of Justice (DOJ), a court or other tribunal, or another party before such court or tribunal, when:

(a) SSA, or any component thereof; or

(b) any SSA employee in his or her official capacity; or

(c) any SSA employee in his or her individual capacity where DOJ (or SSA where it is authorized to do so) has agreed to represent the employee; or

(d) the United States or any agency thereof where we determine the litigation is likely to affect SSA or any of its components, is a party to the litigation or has an interest in such litigation, and we determine that the use of such records by DOJ, a court or other tribunal, or another party before the tribunal, is relevant and necessary to the litigation, provided, however, that in each case, we determine that such disclosure is compatible with the purpose for which the records were collected.

5. To contractors and other Federal agencies, as necessary, for the purpose of assisting SSA in the efficient administration of its programs. We will disclose information under this routine use only in situations in which we may enter into a contractual or similar agreement to obtain assistance in accomplishing an SSA function relating to this system of records.

6. To student volunteers, individuals working under a personal services contract, and other workers who technically do not have the status of Federal employees, when they are performing work for us, as authorized by law, and they need access to PII in our records in order to perform their assigned agency functions.

7. To Federal, State, and local law enforcement agencies and private security contractors, as appropriate, information necessary:

(a) To enable them to protect the safety of SSA employees and customers, the security of the SSA workplace, and the operation of our facilities, or

(b) to assist investigations or prosecutions, with respect to activities that affect such safety and security, or activities that disrupt the operation of our facilities.

8. To the National Archives and Records Administration (NARA) under 44 U.S.C. 2904 and 2906.

9. To appropriate agencies, entities, and persons when:

(a) SSA suspects or has confirmed that there has been a breach of the system of records;

(b) SSA has determined that as a result of the suspected or confirmed breach there is a risk of harm to individuals, SSA (including its information systems, programs, and operations), the Federal Government, or national security; and

(c) the disclosure made to such agencies, entities, and persons is reasonably necessary to assist in connection with SSA's efforts to respond to the suspected or confirmed breach or to prevent, minimize, or remedy such harm.

10. To another Federal agency or Federal entity, when we determine that information from this system of records is reasonably necessary to assist the recipient agency or entity in:

(a) Responding to suspected or confirmed breach; or

(b) preventing, minimizing, or remedying the risk of harm to individuals, the recipient agency or entity (including its information systems, programs, and operations), the Federal Government, or national security, resulting from a suspected or confirmed breach.

11. To the Equal Employment Opportunity Commission, when requested in connection with investigations into alleged or possible discriminatory practices in the Federal sector, examination of Federal affirmative employment programs, compliance by Federal agencies with the Uniform Guidelines on Employee Selection Procedures, or other functions vested in the Commission.

12. To the Office of Personnel Management, Merit Systems Protection Board, or the Office of Special Counsel, in connection with appeals, special studies of the civil service and other merit systems, review of rules and regulations, investigations of alleged or possible prohibited personnel practices, and other such functions promulgated in 5 U.S.C. Chapter 12, or as may be required by law.

13. To the Federal Labor Relations Authority, the Office of the Special Counsel, the Federal Mediation and Conciliation Service, the Federal Service Impasses Panel, or an arbitrator requesting information, in connection with the investigations of allegations of unfair practices, matters before an arbitrator, or the Federal Service Impasses Panel.

14. To Federal, State, and local law enforcement agencies, with jurisdiction to investigate or prosecute criminal violations of the Social Security Act, or other applicable statutes to which criminal penalties attach, when the agency determines that the information is relevant and necessary to the investigation or prosecution.

POLICIES AND PRACTICES FOR STORAGE OF RECORDS:

We will maintain records in this system in paper and electronic form.

POLICIES AND PRACTICES FOR RETRIEVAL OF RECORDS:

We will retrieve medical provider records in this system by name, address, and title. We will retrieve remaining records in this system by name, SSN, and internal transaction identifiers (e.g., transaction identification for the internet Claim application, transaction identification for an electronic online Direct Deposit change, etc.). Information from these retrieved records that matches across other agency systems of records will also create a linkage to retrieve those records, as the system reflects key connections or overlaps based on similar information stored in different data sources at the agency.

POLICIES AND PRACTICES FOR RETENTION AND DISPOSAL OF RECORDS:

In accordance with NARA rules codified at 36 CFR 1225.16, we maintain records in accordance with agency-specific records schedule N1-47-05-1.

ADMINISTRATIVE, TECHNICAL, AND PHYSICAL SAFEGUARDS:

We retain electronic and paper files containing personal identifiers in secure storage areas accessible only by our authorized employees and contractors who have a need for the information when performing their official duties. Security measures include, but are not limited to, the use of codes and profiles, PIN and password, and personal identification verification cards. We restrict access to specific correspondence within the system based on assigned roles and authorized users. We maintain electronic files with personal identifiers in secure storage areas. We use audit mechanisms to record sensitive transactions as an additional measure to protect information from unauthorized disclosure or modification. We keep paper records in cabinets within secure areas, with access limited to only those employees who have an official need for access in order to perform their duties.

We annually provide our employees and contractors with appropriate security awareness training that includes reminders about the need to protect PII and the criminal penalties that apply to unauthorized access to, or disclosure of PII (5 U.S.C. 552a(i)(1)). Furthermore, employees and contractors with access to databases maintaining PII must annually sign a sanction document that acknowledges their accountability for inappropriately accessing or disclosing such information.

RECORD ACCESS PROCEDURES:

This system of records is exempt from the Privacy Act's access, contesting, and notification provisions stated below. However, individuals may submit requests for information about whether this system contains a record about them by submitting a written request to the system manager at the above address, which includes their name, SSN, or other information that may be in this system of records that will identify them. Individuals requesting notification of, or access to, a record by mail must include (1) a notarized statement to us to verify their identity, or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40, 401.45, and 401.55.

CONTESTING RECORD PROCEDURES:

Same as record access procedures. Individuals should also reasonably identify the record, specify the information they are contesting, and state the corrective action sought and the reasons for the correction with supporting justification showing how the record is incomplete, untimely, inaccurate, or irrelevant. These procedures are in accordance with our regulations at 20 CFR 401.65(a).

NOTIFICATION PROCEDURES:

Same as record access procedures. These procedures are in accordance with our regulations at 20 CFR 401.40, 401.45, and 401.55.

EXEMPTIONS PROMULGATED FOR THE SYSTEM:

This system of records is exempt from certain provisions of the Privacy Act pursuant to 5 U.S.C. 552a(k)(2). Rules have been promulgated in accordance with the requirements of 5 U.S.C. 553(b), (c), and (e) and were published on December 11, 2020, at 85 FR 79963.

HISTORY:

83 FR 19588, Anti-Fraud Enterprise Solution (AFES).

85 FR 80211, Anti-Fraud System.

[FR Doc. 2022-09091 Filed 4-27-22; 8:45 am]

BILLING CODE 4191-02-P